DEPARTMENT OF TRANSPORTATION

National Highway Traffic Safety Administration

[Docket No. NHTSA-2015-0105; Notice 1]

Notice of Receipt of Petition for Decision That Nonconforming Model Year 2010 Lamborghini Murcielago Passenger Cars Are Eligible for Importation

AGENCY: National Highway Traffic Safety Administration (NHTSA), Department of Transportation (DOT).

ACTION: Receipt of petition.

SUMMARY: This document announces receipt by the National Highway Traffic Safety Administration (NHTSA) of a petition for a decision that model year (MY) 2010 Lamborghini Murcielago passenger cars (PC) that were not originally manufactured to comply with all applicable Federal motor vehicle safety standards (FMVSS), are eligible for importation into the United States because they are substantially similar to vehicles that were originally manufactured for sale in the United States and that were certified by their manufacturer as complying with the safety standards (the U.S.-certified version of the 2010 Lamborghini Murcielago PC) and they are capable of being readily altered to conform to the standards.

DATES: The closing date for comments on the petition is June 1, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G & K Automotive Conversion Inc., G & K of Santa Ana, California (Registered Importer R-90-007) has petitioned NHTSA to decide whether nonconforming 2010 Lamborghini Murcielago PCs are eligible for importation into the United States. The vehicles which G & K believes are substantially similar are MY 2010 Lamborghini Murcielago PCs sold in the United States and certified by their manufacturer as conforming to all applicable FMVSS.

The petitioner claims that it compared non-U.S. certified MY 2010 Lamborghini Murcielago PCs to their U.S.-certified counterparts, and found the vehicles to be substantially similar with respect to compliance with most FMVSS.

G & K submitted information with its petition intended to demonstrate that non-U.S. certified MY 2010 Lamborghini Murcielago PCs, as originally manufactured, conform to many applicable FMVSS in the same manner as their U.S.-certified counterparts, or are capable of being readily altered to conform to those standards.

Specifically, the petitioner claims that the non U.S.-certified MY 2010 Lamborghini Murcielago PCs, as originally manufactured, conform to: Standard Nos. 102 Transmission Shift Lever Sequence, Starter Interlock, and Transmission Braking Effect, 103 Windshield Defrosting and Defogging Systems, 104 Windshield Wiping and Washing Systems, 106 Brake Hoses, 113 Hood Latch System, 114 Theft Protection, 116 Motor Vehicle Brake Fluids, 118 Power-Operated Window, Partition, and Roof Panel System, 124 Accelerator Control Systems, 135 Light Vehicle Brake Systems, 139 New Pneumatic Radial Tires for Light Vehicles, 201 Occupant Protection in Interior Impact, 202a Head Restraints, 204 Steering Control Rearward Displacement, 205 Glazing Materials, 206 Door Locks and Door Retention Components, 207 Seating Systems, 209 Seat Belt Assemblies, 210 Seat Belt Assembly Anchorages, 212 Windshield Mounting, 214 Side Impact Protection, 216 Roof Crush Resistance, 219 Windshield Zone Intrusion, and 302 Flammability of Interior Materials.

The petitioner also contends that the subject non-U.S. certified vehicles are capable of being readily altered to meet the following standards, in the manner indicated:

Standard No. 101 Controls and Displays: The speedometer must be reprogrammed to read in miles per hour (mph) and all other applicable control, telltale and indicator symbols will be inspected, and if necessary, modified to meet the requirements of the standard.

Standard No. 108 Lamps, Reflective Devices and Associated Equipment: Replacement of the front and rear side marker lamp, and headlamp assemblies with U.S.-conforming components.

Standard No. 110 Tire Selection and Rims: Installation of the required tire information placard.

Standard No. 111 Rearview Mirrors: Inscription of the required warning statement on the face of the passenger side rearview mirror.

Standard No. 138 Tire Pressure Monitoring Systems: Installation of U.S. model tire pressure monitoring system hardware and software components.

Standard No. 208 Occupant Crash Protection: Installation of U.S. model software to cause the advanced air bag functions to be identical to the U.S.-certified 2010 Lamborghini Murcielago PC.

Standard No. 225 Child Restraint Anchorage Systems: Installation of U.S. model child restraint anchorage components.

Standard No. 301 Fuel System Integrity: Fuel system components will be inspected and any non-U.S. model components will be replaced with U.S. model components.

Standard No. 401 Interior Trunk Release: Installation of U.S. model interior trunk release components.

The petitioner additionally states that a vehicle identification plate must be affixed to the vehicle near the left windshield pillar to meet the requirements of 49 CFR part 565.

Because the subject petition covers nonconforming vehicles that have been manufactured on or after September 1, 2006, compliance with the advanced air bag requirements of FMVSS No. 208 is of significant concern to the agency. NHTSA is therefore particularly interested in comments regarding the ability of a Registered Importer to readily alter the subject vehicles to fully meet the driver and front outboard passenger frontal crash protection and child passenger protection requirements of FMVSS No. 208. The following is a partial listing of the components that may be affected:

a. Driver's frontal air bag module

b. Passenger frontal air bag module

c. Passenger frontal air bag cover

d. Knee air bags

e. Knee bolsters

f. Passenger outboard frontal seat belt system

g. Driver and front outboard seat assemblies including seat tracks and internal seat components

h. Steering wheel components, including the clock spring assembly, the steering column, and all connecting components

i. Instrument panel

j. Instrument panel support structure (i.e. cross beam)

k. Occupant sensing and classification systems, including sensors and processors

l. Restraint control modules

m. Passenger air bag status indicator light system, including related display components and wiring

n. Wiring harnesses between the restraint control module, occupant classification system and restraint system components

o. Control system computer software and firmware.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2017-08845 Filed 5-1-17; 8:45 am]

BILLING CODE 4910-59-P